DEPARTMENT OF HEALTH AND HUMAN SERVICES

Meeting of the President's Council on Fitness, Sports, and Nutrition; Correction

AGENCY: Department of Health and Human Services, Office of the Secretary, Office of the Assistant Secretary for Health, Office of the President's Council on Fitness, Sports, and Nutrition.

ACTION: Notice; Correction.

SUMMARY: The Department of Health and Human Services published a notice in the Federal Register on April 13, 2012 to announce the May 1, 2012 meeting of the President's Council on Fitness, Sports, and Nutrition. The meeting was scheduled to be held at 200 Independence Avenue, Room 800, SW., Washington, DC 20201. The location of the meeting has changed.

FOR FURTHER INFORMATION CONTACT: Ms. Shellie Pfohl, Executive Director, President's Council on Fitness, Sports, and Nutrition, Suite 560 Tower Building, 1101 Wootton Parkway, Rockville, MD 20852, (240) 276-9866.

Correction

In the Federal Register of April 13, 2012, Vol. 77, No. 72, on page 22321, in the first column, correct the ADDRESSES caption to read:

ADDRESSES: Verizon Center, 601 F Street NW., Washington, DC 20004.

Dated: April 16, 2012.
Shellie Y. Pfohl,
Executive Director, President's Council on Fitness, Sports, and Nutrition.

[FR Doc. 2012-9799 Filed 4-23-12; 8:45 am]

BILLING CODE 4150-35-P